DEPARTMENT OF THE INTERIOR

Bureau of Land Management

[OR-957-00-1420-BJ: GP03-0107]

Filing of Plats of Survey: Oregon/Washington

AGENCY: Bureau of Land Management.

ACTION: Notice.

SUMMARY: The plats of survey of the following described lands were officially filed in the Oregon State Office, Portland, Oregon, on October 25, 2002.

Willamette Meridian

Oregon

T. 15 S., R. 1 W., accepted September 30, 2002.

T. 27 S., R. 11 W., accepted September 30, 2002.

The plats of survey of the following described lands were officially filed in the Oregon State Office, Portland, Oregon, December 9, 2002.

Oregon

T. 39 S., R. 11 E., accepted November 19, 2002.

T. 34 S., R. 1 E., accepted November 29, 2002.

T. 14 S., R. 1 E., accepted December 5, 2002.

Washington

T. 20 N., R. 15 E., accepted December 3, 2002.

A copy of the plats may be obtained from the Oregon State Office, Bureau of Land Management, 333 SW. 1st Avenue, Portland, Oregon 97204, upon required payment. A person or party who wishes to protest against a survey must file with the State Director, Bureau of Land Management, Portland, Oregon, a notice that they wish to protest.

For further information contact: Bureau of Land Management, (333 SW. 1st Avenue) P.O. Box 2965, Portland, Oregon 97208.

Dated: March 12, 2003.
Robert D. DeViney, Jr.,
Branch of Realty and Records Services.

[FR Doc. 03-6684 Filed 3-19-03; 8:45 am]

BILLING CODE 4310-33-P